DEPARTMENT OF THE INTERIOR

National Park Service

[NPS-WASO-NCR-HAFE-NPS0028746; PPWOHAFCD4, PMO00HF05.D00000, 19XP103905 (200); OMB Control Number 1024-NEW]

Agency Information Collection Activities; National Park Service History Collection User Agreement and Request Form

AGENCY: National Park Service, Interior.

ACTION: Notice of Information Collection; request for comment.

SUMMARY: In accordance with the Paperwork Reduction Act of 1995, we, the National Park Service (NPS) are proposing a new information collection.

DATES: Interested persons are invited to submit comments on or before January 31, 2020.

ADDRESSES: Send your comments on this information collection request (ICR) by mail to Phadrea Ponds, NPS Information Collection Clearance Officer, 1201 Oakridge Drive, Fort Collins, CO 80525; or by email at phadrea_ponds@nps.gov; or by telephone at 970-267-7231. Please reference OMB Control Number 1024-HAFE in the subject line of your comments.

FOR FURTHER INFORMATION CONTACT: To request additional information about this ICR by mail, contact Katrina Gonzalez, Digital Media Specialist, 67 Mather Place PO Box 50, Harpers Ferry, WV 25425-0050, or by email at Katrina_Gonzalez@nps.gov, or by telephone at 304-535-6211. Please reference OMB Control Number 1024-HAFE in the subject line of your comments.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The NPS History Collection comprises over 3.5 million objects, documents, audio recordings, still photographic images, and motion picture films, providing a rich source of information for diverse users interested in the history of the NPS cultural and natural resources. The Harpers Ferry Center (HFC) is responsible for managing this collection. Authorized by 43 U.S.C. 1460, HFC provides copies of museum, archival, and art collections available to increase access to NPS museum collections, to enhance preservation of original materials, for education and public enjoyment, and in general support of the NPS mission.

Each year, staff managing these collections receive hundreds of requests for copies of materials. These requests are typically for hard copy and/or digital scans of documents, prints, slides, negatives, audiovisual materials, and works of art. The forms in this collection of information is necessary to appropriately respond to the large number of requests received. Without the information, timely and effective communication with the requestor is not possible.

The information collected will be used to determine what is requested, how it will be used, and the timeframe in which it is needed. This aids in determining legal restrictions, standards being requested (scan resolution), and our ability to meet those needs. Understanding the intended use of the materials is important as many materials in the collections have copyright, contractual, or other legal restrictions that prohibit anything except “fair use” under U.S. copyright laws.

This request is to approve two forms currently in use without a valid OMB control number. The “User Agreement Document” and “Art Request Form” facilitate requests for copies of materials managed by HFC. We are now requesting approval to use these forms on our Harpers Ferry website as fillable forms.

Title of Collection: NPS History Collection User Agreement and Request Form.

OMB Control Number: 1024-NEW.

Form Number: None.

Type of Review: Collection in use without OMB Approval.

Respondents/Affected Public: Individual researchers, businesses, universities, museums, State, tribal, and federal government agencies and offices.

Total Estimated Number of Annual Respondents: 840.

Total Estimated Number of Annual Responses: 1,200.

Estimated Completion Time per Response: 20 minutes.

Total Estimated Number of Annual Burden Hours: 400.

Respondent's Obligation: Voluntary.

Frequency of Collection: One Time.

Total Estimated Annual Non-Hour Burden Cost: None.

An agency may not conduct or sponsor and a person is not required to respond to a collection of information unless it displays a currently valid OMB control number.

The authority for this action is the Paperwork Reduction Act of 1995 (44 U.S.C. 3501 et seq.).

Phadrea Ponds
Acting, Information Collection Clearance Officer, National Park Service.

[FR Doc. 2019-26020 Filed 11-29-19; 8:45 am]

BILLING CODE 4312-52-P